CONSUMER PRODUCT SAFETY COMMISSION

[Docket No. CPSC-2010-0041]

Collection of Information; Proposed Extension of Approval; Comment Request—Publicly Available Consumer Product Safety Information Database

AGENCY: Consumer Product Safety Commission.

ACTION: Notice.

SUMMARY: As required by the Paperwork Reduction Act of 1995 (PRA), the Consumer Product Safety Commission (CPSC) announces that the CPSC has submitted to the Office of Management and Budget (OMB) a request for extension of approval of a collection of information for the Publicly Available Consumer Product Safety Information Database, previously under OMB Control No. 3041-0146. On December 8, 2022, the CPSC published a notice in the Federal Register announcing the agency's intent to seek this extension. CPSC received one comment in support of the collection of information in response to that notice. By publication of this notice, the Commission announces that CPSC has submitted to the OMB a request for extension of approval of that collection of information, without change.

DATES: Written comments on this request for extension of approval of information collection requirements should be submitted by March 16, 2023.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB, also should be submitted electronically at: http://www.regulations.gov, under Docket No. CPSC-2010-0041.

FOR FURTHER INFORMATION CONTACT: For further information, or a copy of the supporting statement, contact: Cynthia Gillham, Consumer Product Safety Commission, 4330 East West Highway, Bethesda, MD 20814; (301) 504-7791, or by email to: cgillham@cpsc.gov.

SUPPLEMENTARY INFORMATION:

A. Background

Section 212 of the Consumer Product Safety Improvement Act of 2008 (CPSIA) added to the Consumer Product Safety Act (CPSA) a new section 6A, which requires the CPSC to establish and maintain a publicly available, searchable database (Database) on the safety of consumer products and other products or substances regulated by the CPSC. Among other things, section 6A requires the CPSC to collect reports of harm from the public for potential publication in the publicly available Database, and to collect and publish comments from manufacturers about reports of harm.

In a proposed rule published on May 24, 2010 (75 FR 29156), the CPSC announced that a proposed collection of information in conjunction with the Database, called the Publicly Available Consumer Product Safety Information Database, had been submitted to OMB for review and clearance under 44 U.S.C. 3501-3520. The CPSC issued a final rule on the Database on December 9, 2010 (75 FR 76832). The final rule interprets various statutory requirements in section 6A of the CPSA pertaining to the information to be included in the Database. The final rule also establishes provisions regarding submitting reports of harm; providing notice of reports of harm to manufacturers; publishing reports of harm and manufacturer comments in the Database; and dealing with confidential and materially inaccurate information.

OMB approved the collection of information for the Database under control number 3041-0146. OMB's most recent extension of approval, issued on March 31, 2020, will expire on March 31, 2023. Accordingly, the CPSC is seeking an extension of approval of this collection of information.

B. Response To Comment

One individual commenter stated that this collection of information is necessary for general consumer safety, but that the public lacks knowledge of the Database. The commenter states that CPSC should prioritize a campaign regarding the existence and purpose of the Database to benefit consumers. The commenter states that the burden estimates could be reduced through automated and electronic collection techniques, and that these options should be explored, but that CPSC must maintain data quality. CPSC appreciates the commenter's feedback and generally agrees with the commenter's statements. CPSC is not making any changes to the burden estimates for this information collection based on this comment.

C. Information Collected Through the Database

The primary purpose of this information collection is to populate the publicly searchable Database of consumer product safety information mandated by section 6A of the CPSA. The Database information collection has four components: reports of harm, manufacturer comments, branding information, and the Small Batch Manufacturer Registry (SBMR).

Reports of Harm: Reports of harm communicate information regarding an injury, illness, or death, or any risk (as determined by CPSC) of injury, illness, or death, relating to the use of a consumer product or other product or substance regulated by the CPSC. Reports can be submitted to the CPSC by consumers; local, state, or federal government agencies; healthcare professionals; child service providers; public safety entities; and others. Reports may be submitted via the CPSC website (www.SaferProducts.gov), by telephone via a CPSC call center, or by email, fax, or mail using the incident report form (available for download or printing via the CPSC website). Reports may also originate as a free-form letter or email. Submitters must consent to including their report of harm in the publicly searchable Database.

Manufacturer Comments: Pursuant to the CPSIA, CPSC transmits a report of harm to the manufacturer or private labeler identified in the report, and the manufacturer or private labeler may then submit a comment to CPSC related to the report of harm (hereinafter “manufacturer comment”). Manufacturer comments may be submitted through the business portal, by email, mail, or fax. The business portal is a feature of the Database that allows manufacturers and private labelers who register on the business portal to receive reports of harm and comment on such reports through the business portal. Use of the business portal expedites the receipt of reports of harm and business response times.

A manufacturer or private labeler may request that the CPSC designate information in a report of harm as confidential. Such a request may be made using the business portal, by email, by mail, or by fax. Additionally, any person or entity reviewing a report of harm or comment from a manufacturer or private labeler, either before or after publication in the Database, may request that the report or comment, or portions of the report or comment, be excluded from the Database because it contains materially inaccurate information. Such a request may be made by manufacturers or private labelers using the business portal, by email, mail, or fax, and may be submitted by anyone else by email, mail, or fax.

Branding Information: Using the business portal, registered businesses may voluntarily submit branding information to assist CPSC in correctly and timely routing to them reports of harm involving their products. Brand names may be licensed to another entity for use in labeling consumer products manufactured by that entity. CPSC's understanding of licensing arrangements for consumer products helps to ensure that the correct manufacturer or private labeler is timely notified regarding a report of harm.

Small Batch Manufacturers Registry: The business portal also contains the SBMR, which is the online mechanism by which “small batch manufacturers” (as defined in the CPSA) can identify themselves to obtain relief from certain third-party testing requirements for children's products. To register as a small batch manufacturer, a business must attest that the company's income level, and the number of units of the covered product manufactured for which relief is sought, both fall within the statutory limits to receive relief from third party testing.

D. Estimated Burden

1. Estimated Annual Burden for Respondents

We estimate the burden of this collection of information as follows:

Table 1—Estimated Annual Reporting Burden for Reports of Harm
Collection type | Number of respondents | Response frequency ¹ | Total annual responses | Minutes per response | Total burden, in hours ²
Reports of Harm—submitted through website | 4,498 | 1.45 | 6,522 | 12 | 1,304
Reports of Harm —submitted by phone | 1,032 | 1.33 | 1,373 | 10 | 229
Reports of Harm—submitted by mail, e-mail, fax | 296 | 3.71 | 1,098 | 20 | 366
Total | 5,826 |  | 8,993 |  | 1,899

Table 2—Estimated Annual Reporting Burden for Manufacturer Submissions
Collection type | Number of respondents | Response frequency ¹ | Total annual responses | Minutes per response | Total burden, in hours ²
Manufacturer Comments—submitted through website | 437 | 4.53 | 1,980 | 117 | 3,861
Manufacturer Comments—submitted by mail, email, fax | 115 | 1.44 | 166 | 147 | 407
Requests to Treat Information as Confidential—submitted through website | 1 | 1.00 | 1 | 42 | 1
Requests to Treat Information as Confidential—submitted by mail, email, fax | 0 | N/A | 0 | 72 | 0
Requests to Treat Information as Materially Inaccurate—submitted through website | 97 | 1.46 | 142 | 165 | 391
Requests to Treat Information as Materially Inaccurate—submitted by mail, email, fax | 22 | 1.23 | 27 | 195 | 88
Voluntary Brand Identification | 513 | 1.00 | 513 | 10 | 86
Small Batch Manufacturer Identification | 1,747 | 1.00 | 1,747 | 10 | 291
Total | 2,932 |  | 4,576 |  | 5,125

Based 1 2 on the data set forth in Tables 1 and 2 above, the annual reporting cost is estimated to be $443,089. This estimate is based on the sum of two estimated total figures for reports of harm and manufacturer or private labeler submissions. The estimated number of respondents and responses are based on the actual responses received in FY 2022. We assume that the number of responses and respondents will be similar in future years.

¹ Frequency of responses is calculated by dividing the number of responses by the number of respondents.

² Numbers have been rounded.

Reports of Harm: Table 1 sets forth the data used to estimate the burden associated with submitting reports of harm. Since the previous renewal of the collection, the number of annual reports of harm submitted by mail, email or fax decreased from 15,314 to 1,098; reports of harm submitted by phone decreased from 1,418 to 1,373; and reports of harm submitted through the website increased from 6,023 to 6,522.

We had previously estimated the time associated with the electronic and telephone submission of reports of harm at 12 and 10 minutes, respectively; and because we have had no indication that these estimates are not appropriate or accurate, we used those figures for present purposes as well. We estimate that the time associated with a paper or PDF form would be 20 minutes, on average.

To estimate the costs for submitting reports of harm, we multiplied the estimated total burden hours associated with reports of harm (1,304 hours + 229 hours + 366 hours = 1,899 hours) by an estimated total compensation for all workers in private industry of $38.61 per hour,³ which results in an estimated cost of $73,320 (1,899 hours × $38.61 per hour = $73,320 FY22).

³ U.S. Department of Labor, Bureau of Labor Statistics, Table 4 of the Employer Costs for Employee Compensation (ECEC), Private Industry workers, by occupational group, Mar 2022 (data extracted on 10/3/2022 from: https://www.bls.gov/news.release/archives/ecec_06162022.pdf).

Manufacturer Submissions: Tables 2 and 3 set forth the data used to estimate the burden associated with manufacturer and private labeler submissions to the Database. We observed that a large percentage of the general comments come from a few businesses, and we assumed that the experience of a business that submits many comments each year would be different from one that submits only a few. Accordingly, previously, we divided all responding businesses into three groups based on the number of general comments submitted, and then we selected several businesses to contact from each group. The first group contacted consisted of businesses that submitted 50 or more comments, accounting for 31 percent of all general comments received. The second group contacted included businesses that submitted 6 to 49 comments, accounting for 39 percent of all general comments received. The last group contacted included businesses that submitted no more than 5 comments, accounting for 30 percent of all general comments received. We asked each company how long it typically takes to research, compose, and enter a comment or a claim of materially inaccurate information.

To estimate the burden associated with submitting a general comment regarding a report of harm through the business portal, we averaged the burden provided by each company within each group, and then we calculated a weighted average from the three groups, weighting each group by the proportion of comments received from that group. We found that the average time to submit a general comment regarding a report of harm is 117 minutes, based on the data in Table 3 (((15 minutes + 45 minutes + 30 minutes + 15 minutes)/4 companies)*.31 + ((105 minutes + 45 minutes + 150 minutes + 15 minutes)/4 companies)*.39 + ((240 minutes + 60 minutes + 480 minutes)/3 companies)*.30 = 117 minutes).

Table 3—Estimated Burden To Enter a General Comment in the Database
Group | Company | General comments (minutes)
Group 1 (>=50 comments) | Company A | 15
| Company B | 45
| Company C | 30
| Company D | 15
Group 2 (6-49 comments) | Company A | 105
| Company B | 45
| Company C | 150
| Company D | 15
Group 3 (<=5 comments) | Company A | 240
| Company B | 60
| Company C | 480

Registered businesses generally submit comments through the CPSC website. Unregistered businesses submit comments by mail, email, or fax. We estimate that submitting comments via mail, email, or fax takes a little longer because often, we must ask businesses to amend their submissions to include the required certifications. Thus, we estimated that, on average, comments submitted by mail, email, or fax take 30 minutes longer than comments submitted through the CPSC website (117 minutes + 30 minutes = 147 minutes).

The submission of a claim of materially inaccurate information is a relatively rare event for all respondents, so we averaged all responses together. Eight of the businesses contacted had submitted claims of materially inaccurate information. We found that the average time to submit a claim that a report of harm contains a material inaccuracy is 165 minutes ((30 minutes + 90 minutes + 45 minutes + 90 minutes + 60 minutes + 660 minutes + 45 minutes + 300 minutes)/8 companies = 165 minutes).

Registered businesses generally submit claims of materially inaccurate information through the business portal. Unregistered businesses submit such claims by mail, email, or fax. We estimate that submitting claims via mail, email, or fax takes a little longer because we often must ask businesses to amend their submission to include the required certifications. Thus, we estimate that, on average, claims submitted by mail, email, or fax take 30 minutes longer than those submitted through the CPSC website (165 minutes + 30 minutes = 195 minutes).

The submission of a claim of confidential information is another relatively rare event for all respondents, so we averaged all responses together. Five of the businesses contacted had submitted claims of confidential information. We found that the average time to submit a claim that a report of harm contains confidential information through the CPSC website is 42 minutes ((45 minutes + 15 minutes + 60 minutes + 30 minutes + 60 minutes)/5 companies = 42 minutes).

Registered businesses generally submit confidential information claims through the business portal. Unregistered businesses submit confidential information claims by mail, email, or fax. We estimate that submitting claims by mail, email, or fax takes a little longer because often, we must ask businesses to amend their submission to include the required certifications. Thus, we estimate that a confidential information claim submitted by mail, email, or fax would take 30 minutes longer than those submitted through the CPSC website (42 minutes + 30 minutes = 72 minutes).

For voluntary brand identification, we estimate that a response would take 10 minutes, on average. Most responses consist only of the brand name and a product description. In many cases, a business will submit multiple entries in a brief period of time, and we can see from the date and time stamps on these records that an entry often takes less than 2 minutes. CPSC staff enters the same data in a similar form, based on our own research, and that experience was also factored into our estimate.

For small batch manufacturer identification, we estimate that a response would take 10 minutes, on average. The form consists of three check boxes and the information should be readily accessible to the respondent.

The responses summarized in Table 2 are generally submitted by manufacturers. To avoid underestimating the cost associated with the collection of this data, we assigned the higher hourly wage associated with a manager or professional in goods-producing industries to these tasks. To estimate the cost of manufacturer submissions, we multiplied the estimated total burden hours in Table 2 (5,125 hours), by an estimated total compensation for a manager or professional in goods-producing industries of $72.15 per hour,⁴ which results in an estimated cost of $ 369,769 (5,125 hours × $72.15 per hour = $369,769).

⁴ U.S. Department of Labor, Bureau of Labor Statistics, Table 4 of the Employer Costs for Employee Compensation (ECEC), Private Industry workers, by occupational group, Mar 2022 (data extracted on 8/2/2022 from: https://www.bls.gov/news.release/ecec.t04.htm).

Therefore, the total estimated annual cost to respondents is $443,089 ($73,320 burden for reports of harm + $369,769 burden for manufacturer submissions = $443,089).

2. Estimated Annual Burden on Government

We estimate the annualized cost to the CPSC to be $981,516. This figure is based on the costs for four categories of work for the Database: Reports of Harm, Materially Inaccurate Information Claims, Manufacturer Comments, and Small Batch Identification. Each category is described below. No government cost is associated with firms' voluntary brand identification because this information is entered directly into the Database by the manufacturer with no processing required by the government. The information assists the government in directing reports of harm to the correct manufacturer. Because we only have one request to treat information as confidential in FY 2022, we included the government's time to process this claim with the claims of materially inaccurate information.

Reports of Harm: The Reports of Harm category includes many different tasks. Some costs related to this category are from two data entry contracts. Tasks related to these contracts include clerical coding of the report, such as identifying the type of consumer product reported and the appropriate associated hazard, as well as performing quality control on the data in the report. Contractor A spends an estimated 4,940 hours per year performing these tasks. With an hourly rate of $34.53 for contractor services, the annual cost to the government of contract A is $170,578.

The Reports of Harm category also includes sending consent requests for reports when necessary, processing that consent when received, determining whether a product is out of CPSC's jurisdiction, and confirming that pictures and attachments do not have any personally identifiable information. The Reports of Harm category also entails notifying manufacturers or private labelers when one of their products is reported, completing a risk of harm determination form for every report eligible for publication, referring some reports to a subject matter expert within the CPSC for a determination whether the reports meet the requirement of having a risk of harm, and determining whether a report meets all the statutory and regulatory requirements for publication. Detailed costs are:

Table 4—Estimated Costs for Reports of Harm Task
Grade level | Number of hours (annual) | Total compensation per hour | Total annual cost
Contract A | 4,940 | $34.53 | $170,578
7 | 2,912 | 40.44 | 117,761
9 | 1,456 | 49.47 | 72,028
12 | 3,328 | 71.74 | 238,751
13 | 1,248 | 85.31 | 106,467
14 | 832 | 100.81 | 83,874
Total | 14,716 |  | 789,459

Materially Inaccurate Information (MII) Claims: The MII claims category includes reviewing and responding to claims, participating in meetings where the claims are discussed, and completing a risk of harm determination on reports when a company alleges that a report does not describe a risk of harm.

Table 5—Estimated Costs for MII Claims Task
Grade level | Number of hours (annual) | Total compensation per hour | Total annual cost
12 | 312 | $71.74 | $22,383
13 | 208 | 85.31 | 17,744
14 | 312 | 100.81 | 31,453
15 | 21 | 118.57 | 2,490
SES | 42 | 132.43 | 5,562
Total | 895 |  | 79,632

Manufacturer Comments: The Comments category includes reviewing and accepting or rejecting comments.

Table 6—Estimated Costs for Manufacturer Comments Task
Grade level | Number of hours (annual) | Total compensation per hour | Total annual cost
12 | 62 | $71.74 | $4,448
13 | 104 | 85.31 | 8,872
Total | 166 |  | 13,320

Small Batch Manufacturer Identification: The Small Batch Manufacturer Identification category includes time spent posting the list of small batch registrations, as well as answering companies' questions on registering as a Small Batch Manufacturer and the implications of small batch registration.

Table 7—Estimated Costs for Small Batch Task
Grade level | Number of hours (annual) | Total compensation per hour | Total annual cost
15 | 642 | $118.57 | $76,122
Total | 642 |  | 76,122

We estimate the annualized cost to the CPSC of $958,533, by adding the four categories of work related to the Database summarized in Tables 4 through 7 (Reports of Harm ($789,459) + MII Claims ($79,632) + Manufacturer Comments ($13,320) + Small Batch Identification ($76,122) = $958,533).

This information collection renewal request is based on an estimated 7,024 burden hours per year for the Database, which represents a decrease of 6,319 hours since this collection of information was last approved by OMB in 2019. Total burden from reports of harm decreased by 4,647 hours (from 6,546 to 1,899), and total burden for manufacturer's submission decreased by 1,672 hours, from 6,797 to 5,125.

Declines in total burden hours are attributed primarily to a decline in the number of reports of harm submitted by mail, email, and fax. In addition, CPSC staff has identified an error in the 2019 update for this control number that increased the estimated burden; the error involved inclusion of death certificates collected by CPSC staff in the number of reports of harm submitted for the Database by mail, email, and fax. Finally, for this update there was a decrease in small batch manufacturer activity.

Alberta E. Mills,
Secretary, Consumer Product Safety Commission.

[FR Doc. 2023-03080 Filed 2-13-23; 8:45 am]

BILLING CODE 6355-01-P